DEPARTMENT OF HEALTH AND HUMAN SERVICES

Centers for Disease Control and Prevention

[60Day-05-05CA]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Twelve-Month Follow-up of Chronic Fatigue Syndrome (CFS) and Chronic Unwellness in Georgia—New —Centers for Disease Control and Prevention (CDC)—National Center for Infectious Diseases (NCID).

Background and Brief Description

The Chronic Fatigue Syndrome Program within the CDC has been mandated by Congress to: (1) Estimate the magnitude of CFS in the United States with special consideration of under-served populations (children and racial/ethnic minorities); (2) describe the clinical features of CFS; and (3) identify risk factors and diagnostic markers. CDC is currently planning a twelve-month follow-up study in Georgia to estimate the prevalence and incidence of CFS and other fatiguing illnesses. The study will also determine whether or not there are differences in occurrence of fatiguing illness across metropolitan, urban, and rural populations as well as in racial and ethnic populations.

In 2004, OMB approved the information collection, Survey of Chronic Fatigue Syndrome and Chronic Unwellness in Georgia, under OMB Number 0920-0638, which provides baseline information on prolonged fatiguing illness in selected metropolitan, urban, and rural regions in Georgia. Data from the proposed Follow-up Survey of Chronic Fatigue Syndrome and Chronic Unwellness in Georgia, will be added to the baseline data obtained under OMB Number 0920-0638, which cover the period September 2004-June 2005. This additional longitudinal study will allow CDC to estimate incidence of CFS, chronic unwellness, and other fatigue-related illnesses among various racial and ethnic populations and characterize the clinical course of these conditions. CDC will compare prevalence and incidence estimates from this proposed study of the Georgia population to estimates obtained from the longitudinal Sedgwick County Studies of CFS to ascertain whether or not findings from the Sedgwick County Studies can be generalized to other populations.

The proposed study continues the initial Georgia survey using similar methodology and data collection instruments. This follow-up study will begin with a detailed telephone interview to obtain additional data on participant health status during the last twelve-month period. Eligible subjects will be asked to participate in clinical evaluations. There is no cost to respondents other than their time. The total annualized burden hours are 2228.

Estimate of Annualized Burden Table
Respondents | Number of respondents | Number responses per respondent | Average burden/response (in hours) | Total burden hours
Telephone interview | 4,455 | 1 | 30/60 | 2228

Dated: April 29, 2005.
Joan F. Karr,
Acting Reports Clearance Officer, Centers for Disease Control and Prevention.

[FR Doc. 05-9066 Filed 5-5-05; 8:45 am]

BILLING CODE 4163-18-P